DEPARTMENT OF ENERGY

Federal Energy Regulatory Commission

[P-2698-033, P-2686-032, P-2602-007]

Duke Power; Notice of Intent To Prepare an Environmental Assessment and Notice of Scoping Meetings and Site Visits and Soliciting Scoping Comments

October 29, 2004.

Take notice that the following hydroelectric applications have been filed with the Commission and are available for public inspection:

a. Type of Applications: 2 New Major Licenses and 1 Surrender of License.

b. Project Nos.: 2698-033, 2686-032, and 2602-007.

c. Dates filed: July 22, 2003 and June 1, 2004.

d. Applicant: Duke Power.

e. Names of Projects: East Fork Hydroelectric Project No. 2698-033; West Fork Hydroelectric Project No. 2686-032; and Dillsboro Hydroelectric Project No. 2602-007.

f. Location: On the Tuckasegee River, in Jackson County, North Carolina. There are 23.15 acres of United States Forest Service land (Nantahala National Forest) within the East Fork Project boundary. Neither the West Fork Project nor the Dillsboro Project affects any Federal lands.

g. Filed Pursuant to: Federal Power Act, 16 U.S.C. 791(a)-825(r).

h. Applicant Contact: John C. Wishon, Nantahala Area Relicensing Project Manager, Duke Power, 301 NP&L Loop, Franklin, NC 28734, (828) 369-4604, jcwishon@duke-energy.com

i. FERC Contact: Carolyn Holsopple, (202) 502-6407 or carolyn.holsopple@ ferc.gov.

j. Deadline for filing scoping comments: January 10, 2005.

All documents (original and eight copies) should be filed with: Magalie R. Salas, Secretary, Federal Energy Regulatory Commission, 888 First Street, NE., Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. These applications are not ready for environmental analysis at this time.

l. The existing East Fork Project operates in a peaking mode and is comprised of three developments: Cedar Cliff, Bear Creek and Tennessee Creek. The Cedar Cliff development consists of the following features: (1) A 590-foot-long, 173-foot-high earth core and rockfill dam (Cedar Cliff Dam); (2) a service spillway excavated in rock at the right abutment; (3) a 221-foot-long emergency spillway located at the left abutment; (4) a 121-acre reservoir, with a normal reservoir elevation of 2,330 feet National Geodetic Vertical Datum (NGVD) and a storage capacity of 6,200 acre-feet; (5) a concrete powerhouse containing one generating unit having an installed capacity of 6.1 megawatts (MW); and (6) appurtenant facilities.

The Bear Creek development consists of the following features: (1) A 760-foot-long, 215-foot-high earth core and rockfill dam (Bear Creek Dam); (2) a spillway on the right abutment; (3) a 473-acre reservoir, with a normal reservoir elevation of 2,560 feet NGVD and a storage capacity of 34,650 acre-feet; (4) a concrete powerhouse containing one generating unit having an installed capacity of 8.2 MW; and (5) appurtenant facilities.

The Tennessee development consists of the following features: (1) A 385-foot-long, 140-foot-high earth core and rockfill dam (Tanasee Creek Dam) with a 225-foot-long, 15-foot-high earth and rockfill saddle dam located 600 feet south of the Tanasee Creek Dam left abutment; (2) a spillway located in a channel excavated in the right abutment; (3) a 810-foot-long, 175-foot-high earth core and rockfill dam (Wolf Creek Dam); (4) a spillway located in a channel excavated in the right abutment; (5) a 40-acre reservoir (Tanasee Creek Lake), with a normal reservoir elevation of 3,080 feet NGVD and a storage capacity of 1,340 acre-feet; (6) a 176-acre reservoir (Wolf Creek Lake), with a normal reservoir elevation of 3,080 feet National Geodetic Vertical Datum and a storage capacity of 10,040-acre-feet; (7) a concrete powerhouse containing one generating unit having an installed capacity of 8.75 MW.

The existing West Fork Project operates in a peaking mode and is comprised of two developments: Thorpe and Tuckasegee. The Thorpe development consists of the following features: (1) A 900-foot-long, 150-foot-high rockfill dam (Glenville Dam), with a 410-foot-long, 122-foot-high earth and rockfill saddle dam located approximately 500 feet from the main dam left abutment; (2) a spillway for Glenville Dam located at the right abutment; (3) a 1,462-acre reservoir, with a normal reservoir elevation of 3,491.8 feet NGVD and a storage capacity of 72,000 acre-feet; (4) a concrete and brick powerhouse containing one generating unit having an installed capacity of 15.5 megawatts (MW); and (5) appurtenant facilities.

The Tuckasegee development consists of the following features: (1) A 254-foot-long, 61-foot-high concrete arch dam (Tuckasegee Dam), with 24 steel flashboards; (2) a 233.5-foot-long spillway; (3) a 7.9-acre reservoir, with a normal reservoir elevation of 2,778.75 feet NGVD and a storage capacity of 35 acre-feet; (4) a concrete powerhouse containing one generating unit having an installed capacity of 2.6 MW; and (5) appurtenant facilities.

The existing Dillsboro Project operates in a run-of-river mode, within a 6-inch tolerance band. Project operation is dependent on available flow in the Tuckasegee River, which is dependent on Duke Power's East Fork and West Fork Tuckasegee River projects. The Dillsboro Project consists of the following features: (1) A 310-foot-long, 12-foot-high concrete masonry dam, consisting of, from left to right facing downstream, (a) a concrete, non-overflow section, (b) a 14-foot-long uncontrolled spillway section, (c) a 20-foot-long spillway section with two 6-foot-wide spill gates, (d) a 197-foot-long uncontrolled spillway section, (e) a 64.5-foot-long powerhouse, (f) an 80-foot-long intake section, and (g) a concrete, non-overflow section; (2) a 0.8-mile-long, 15-acre impoundment at elevation 1972.00 msl; (3) two intake bays, each consisting of a reinforced concrete flume and grated trashracks having a clear bar spacing varying from 2.0 to 3.38 inches; (4) a powerhouse containing two turbine/generating units(vertical Francis and Leffel Type-Z turbines), having an installed capacity of 225 kW; (5) a switchyard, with three single-phased transformers; and (6) appurtenant facilities.

Duke Power filed an application to surrender its major license for the Dillsboro Hydroelectric Project. Duke requests that the Commission approve the following: (1) Continue operating the Dillsboro Project under the terms of the current license until dam removal begins; (2) decommission the dam and powerhouse and complete dam removal and powerhouse closure/removal within three years following the final FERC approval order; (3) prepare and obtain FERC approval of, and implement an environmental monitoring plan in association with the dam removal, including completion of the Duke implemented portions of any post-removal stream restoration and annual monitoring within two years following completion of the dam removal. Also included in the surrender application was the Tuckasegee/Nantahala Settlement Agreements which were filed on January 26, 2004 as part of the relicense applications for the East Fork (P-2698), West Fork (P-2686), and Nantahala (P-2692) Hydroelectric Projects. The settlement agreements provide various environmental enhancement measures, which include the removal of the Dillsboro Dam and Powerhouse.

m. Copies of the applications are available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, 1-202-502-8659. Copies are also available for inspection and reproduction at the address in item h above.

You may also register online at http://www.ferc.gov/esuscribenow.htm to be notified via e-mail of new filings and issuances related to these or other pending projects. For assistance, contact FERC Online Support.

n. Scoping Process: The Commission intends to prepare a single, combined Environmental Assessment (EA) for the proposed projects in accordance with the National Environmental Policy Act. The EA will consider both site-specific and cumulative environmental impacts and reasonable alternatives to the proposed action.

Site Visits: Duke Power and the Commission staff will conduct project site visits on December 8 (East Fork) and December 9 (West Fork), 2004. We will meet at the Jackson County Justice and Administration Building and will then proceed to the Power Plants. Site visitors will be responsible for their own transportation. We will not be conducting a Dillsboro Hydroelectric Project site visit as one was held in February 2004. Anyone with questions regarding the site visits should contact Mr. John C. Wishon of Duke Power at (828) 369-4604. The times and locations of these site visits are as follows:

East Fork Site Visit

Date: Wednesday, December 8, 2004.

Time: 9 a.m.-12 p.m. (e.s.t.).

Place: Jackson County Justice and Administration Building.

Address: 401 Grindstaff Cove Road, Sylva, NC 28779.

West Fork Site Visit

Date: Thursday, December 9, 2004.

Time: 9 a.m.-12 p.m. (e.s.t.).

Place: Jackson County Justice and Administration Building.

Address: 401 Grindstaff Cove Road, Sylva, NC 28779.

Scoping Meetings: Commission staff will conduct four public scoping meetings in the project area to solicit comments and viewpoints the public may wish to offer concerning project effects associated with the East Fork and West Fork Hydroelectric Projects and the Dillsboro Surrender. Two afternoon meetings (one for East Fork/Dillsboro and one for West Fork/Dillsboro) will focus on resource agency concerns and two evening meetings (one for East Fork/Dillsboro and one for West Fork/Dillsboro) will focus on input from the public. All interested individuals, organizations, Indian tribes, and agencies are invited to attend any or all of the meetings, and to assist the staff in identifying the scope of the environmental issues that should be analyzed in the EA. The times and locations of these meetings are as follows:

East Fork/Dillsboro Agency Scoping Meeting

Date: Wednesday, December 8, 2004.

Time: 2 p.m.-4 p.m. (e.s.t.)

Place: Jackson County Justice and Administration Building, Courtroom # 2, 2nd Floor.

Address: 401 Grindstaff Cove Road, Sylva, NC 28779.

East Fork/Dillsboro Public Scoping Meeting

Date: Wednesday December 8, 2004.

Time: 6 p.m.-9 p.m. (e.s.t.).

Place: Jackson County Justice and Administration Building, Courtroom # 2, 2nd Floor.

Address: 401 Grindstaff Cove Road, Sylva, NC 28779.

West Fork/Dillsboro Agency Scoping Meeting

Date: Thursday December 9, 2004.

Time: 2 p.m.-4 p.m. (est).

Place: Jackson County Justice and Administration Building, Courtroom # 2, 2nd Floor.

Address: 401 Grindstaff Cove Road, Sylva, NC 28779.

West Fork/Dillsboro Public Scoping Meeting

Date: Thursday December 9, 2004.

Time: 6 p.m.-9 p.m. (e.s.t.).

Place: Jackson County Justice and Administration Building, Courtroom # 2, 2nd Floor.

Address: 401 Grindstaff Cove Road, Sylva, NC 28779.

Copies of the Scoping Document (SD1) outlining the subject areas to be addressed in the EA are being distributed to the parties on the Commission's mailing list. Copies of the SD1 will be available at the scoping meetings or may be viewed on the Web at http://www.ferc.gov using the “eLibrary” link [see item (m) above]. These meetings are posted on the Commission's calendar located on the Internet at http://www.ferc.gov/EventCalendar/EventsList.aspx along with other related information.

Objectives: At the scoping meetings, staff will: (1) Summarize the environmental issues tentatively identified for analysis in the EA; (2) solicit from the meeting participants all available information, especially empirical data, on the resources at issue; (3) encourage statements from experts and participants on issues that should be analyzed in the EA, including viewpoints in opposition to, or in support of, the staff's preliminary views; (4) determine the resource issues to be addressed in the EA; and (5) identify those issues that do not require a detailed analysis.

Procedures: The meetings will be recorded by a stenographer and become part of the formal record of the Commission proceeding on the project.

Individuals, organizations, agencies, and Indian tribes with environmental expertise and concerns are encouraged to attend the meetings and to assist Commission staff in defining and clarifying the issues to be addressed in the EA.

Magalie R. Salas,
Secretary.

[FR Doc. E4-3068 Filed 11-5-04; 8:45 am]

BILLING CODE 6717-01-P